DEPARTMENT OF TRANSPORTATION

Federal Aviation Administration

14 CFR Part 39

[Docket No. FAA-2015-0082; Directorate Identifier 2014-NM-233-AD; Amendment 39-18092; AD 2015-02-23]

RIN 2120-AA64

Airworthiness Directives; Bombardier, Inc. Airplanes

AGENCY: Federal Aviation Administration (FAA), Department of Transportation (DOT).

ACTION: Final rule; request for comments.

SUMMARY: We are adopting a new airworthiness directive (AD) for certain Bombardier, Inc. Model CL-600-1A11 (CL-600), CL-600-2A12 (CL-601), and CL-600-2B16 (CL-601-3A, and CL-601-3R Variants) airplanes. This AD requires repetitive inspections for fractured or incorrectly oriented fasteners on the inboard flap hinge-box forward fittings on both wings, and replacement of all fasteners, if necessary. This AD was prompted by several reports of incorrectly oriented and fractured fasteners found on the inboard flap hinge-box forward fitting at wing station (WS) 76.50. We are issuing this AD to detect and correct incorrectly oriented or fractured fasteners, which could result in detachment of the flap hinge-box and the flap surface, and consequent reduced controllability of the airplane.

DATES: This AD becomes effective February 18, 2015.

The Director of the Federal Register approved the incorporation by reference of certain publications listed in this AD as of February 18, 2015.

We must receive comments on this AD by March 20, 2015.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this AD, contact Bombardier, Inc., 400 Côte-Vertu Road West, Dorval, Québec H4S 1Y9, Canada; telephone 514-855-5000; fax 514-855-7401; email thd.crj@aero.bombardier.com; Internet http://www.bombardier.com. You may view this referenced service information at the FAA, Transport Airplane Directorate, 1601 Lind Avenue SW., Renton, WA. For information on the availability of this material at the FAA, call 425-227-1221. It is also available on the Internet at http://www.regulations.gov by searching for and locating Docket No. FAA-2015-0082.

Examining the AD Docket

You may examine the AD docket on the Internet at http://www.regulations.gov by searching for and locating Docket No. FAA-2015-0082; or in person at the Docket Operations office between 9 a.m. and 5 p.m., Monday through Friday, except Federal holidays. The AD docket contains this AD, the regulatory evaluation, any comments received, and other information. The street address for the Docket Operations office (telephone 800-647-5527) is in the ADDRESSES section. Comments will be available in the AD docket shortly after receipt.

FOR FURTHER INFORMATION CONTACT: Aziz Ahmed, Aerospace Engineer, Airframe and Mechanical Systems Branch, ANE-171, FAA, New York Aircraft Certification Office, 1600 Stewart Avenue, Suite 410, Westbury, NY 11590; telephone 516-228-7329; fax 516-794-5531.

SUPPLEMENTARY INFORMATION:

Discussion

Transport Canada Civil Aviation (TCCA), which is the aviation authority for Canada, has issued Canadian Emergency Airworthiness Directive CF-2013-39R2, dated December 12, 2014 (referred to after this as the Mandatory Continuing Airworthiness Information, or “the MCAI”), to correct an unsafe condition on certain Bombardier, Inc. Model CL-600-1A11 (CL-600), CL-600-2A12 (CL-601), and CL-600-2B16 (CL-601-3A, and CL-601-3R Variants) airplanes. The MCAI states:

There have been three in-service reports on 604 Variant aeroplanes of a fractured fastener head on the inboard flap hinge-box forward fitting at Wing Station (WS) 76.50, found during a routine maintenance inspection. Investigation revealed that the installation of these fasteners on the inboard flap hinge-box forward fittings at WS 76.50 and WS 127.25, on both wings, does not conform to the engineering drawings. Incorrect installation may result in premature failure of the fasteners attaching the inboard flap hinge-box forward fitting. Failure of the fasteners could lead to the detachment of the flap hinge box and consequently the detachment of the flap surface. The loss of a flap surface could * * * [result in reduced controllability of the airplane].

The original issue of this [Canadian] AD [dated December 6, 2013] [http://www.regulations.gov/#!documentDetail;D=FAA-2014-0054-0002] [which corresponds to FAA AD 2014-03-17, Amendment 39-17754 (79 FR 9389, February 19, 2014)] mandated a detailed visual inspection (DVI) of each inboard flap hinge-box forward fitting, on both wings, and rectification as required. Incorrectly oriented fasteners require repetitive inspections until the terminating action is accomplished.

Although there have been no reported fractured fastener heads found to date on any model CL-600-1A11, -2A12 or -2B16 (601-3A-3R Variant) aeroplanes, incorrectly oriented fasteners may also be installed.

After the issuance of the original [Canadian] AD [dated August 15, 2014], there has been one reported incident on a 604 Variant aeroplane where four fasteners were found fractured on the same flap hinge-box forward fitting. The investigation determined that the fasteners were incorrectly installed.

Revision 1 of this [Canadian] AD was issued to remove the 604 Variant aeroplanes from the Applicability section since they were addressed in [Canadian] AD CF-2014-27 [dated August 15, 2014] [which corresponds to FAA AD 2014-17-51, Amendment 39-17999 (79 FR 64088, October 28, 2014)] and to clarify paragraphs A.2. and C of this [Canadian] AD so that it matched the Bombardier Alert Service Bulletins.

After the issuance of Revision 1 of this [Canadian] AD, there have been several reports of incorrectly oriented fasteners found on CL-600-1A11, and -2B16 (601-3A Variant) aeroplanes. Although there have been no reports of fractured fasteners found to date, incorrectly oriented fasteners could result in the premature failure of the forward flap hinge-box fitting.

Revision 2 of this [Canadian] AD is issued to reduce the initial and repetitive inspection intervals and to impose replacement of the incorrectly oriented fasteners * * *. This [Canadian] AD also corrects various terminology errors which were found in previous French versions of this [Canadian] AD.

You may examine the MCAI on the Internet at http://www.regulations.gov by searching for and locating Docket No. FAA-2015-0082.

Related Rulemaking

On February 3, 2014, we issued AD 2014-03-17, Amendment 39-17754 (79 FR 9389, February 19, 2014) for Bombardier, Inc. Model CL-600-1A11 (CL-600) airplanes, having serial numbers (S/Ns) 1004 through 1085 inclusive; Model CL-600-2A12 (CL-601) airplanes, having S/Ns 3001 through 3066 inclusive; and Model CL-600-2B16 (CL-601-3A, CL-601-3R, & CL-604 Variants) airplanes, having S/Ns 5001 through 5194 inclusive, 5301 through 5665 inclusive, and 5701 through 5920 inclusive. AD 2014-03-17 requires repetitive inspections for fractured or incorrectly oriented fasteners on the inboard flap hinge-box forward fittings on both wings, and fastener replacement if necessary, and was prompted by two reports of fractured fastener heads found on the inboard flap hinge-box forward fitting. AD 2014-03-17 was issued to detect and correct incorrectly oriented or fractured fasteners, which could result in detachment of the flap hinge-box and the flap surface, and consequent reduced controllability of the airplane.

After we issued AD 2014-03-17, Amendment 39-17754 (79 FR 9389, February 19, 2014), we received a report of an additional incident of fractured fasteners on a Model CL-600-2B16 (CL-604 Variant) airplane. We then issued AD 2014-17-51, Amendment 39-17999 (79 FR 64088, October 28, 2014), as a “stand-alone” AD to reduce compliance times for the initial and repetitive inspections only for Model CL-600-2B16 airplanes having S/Ns 5301 through 5665 inclusive, and 5701 through 5920 inclusive. Issuing AD 2014-17-51 as a “stand-alone” AD instead of superseding AD 2014-03-17 was determined to be clearer and less burdensome for operators with airplanes unaffected by the reduced compliance times required by AD 2014-17-51.

Since we issued AD 2014-17-51, Amendment 39-17999 (79 FR 64088, October 28, 2014), we received a report of incorrectly oriented fasteners on a Model CL-600-1A11 airplane and on a Model CL-600-2B16 (601-3A Variant) airplane. Consequently, we determined it was necessary to issue this AD to reduce compliance times for the other airplane models not affected by AD 2014-17-51. Doing so reduces the potential complexity for two groups of airplanes (those that are and are not affected by AD 2014-17-51).

Related Service Information Under 1 CFR Part 51

Bombardier has issued Alert Service Bulletins A600-0763, Revision 02, dated December 9, 2014, including Appendices 1 and 2, dated September 26, 2013; and A601-0627, Revision 02, dated December 9, 2014, including Appendices 1 and 2, dated September 26, 2013. The service information describes procedures for repetitive inspections of the fasteners on the inboard flap hinge-box forward fittings on both wings, and replacement of all fasteners, if necessary. The actions described in this service information are intended to correct the unsafe condition identified in the MCAI. This service information is reasonably available; see ADDRESSES for ways to access this service information.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of these same type designs.

FAA's Determination of the Effective Date

An unsafe condition exists that requires the immediate adoption of this AD. The FAA has found that the risk to the flying public justifies waiving notice and comment prior to adoption of this rule because we have received several reports of incorrectly oriented and fractured fasteners found on the inboard flap hinge-box forward fitting at WS 76.50. Incorrectly oriented or fractured fasteners could result in detachment of the flap hinge-box and the flap surface, and consequent reduced controllability of the airplane. Therefore, we determined that notice and opportunity for public comment before issuing this AD are impracticable and that good cause exists for making this amendment effective in fewer than 30 days.

Interim Action

We consider this AD interim action. We are currently considering requiring replacement of incorrectly oriented fasteners, which will constitute terminating action for the repetitive inspections required by this AD action. However, the planned compliance time for the replacement would allow enough time to provide notice and opportunity for prior public comment on the merits of the modification.

Comments Invited

This AD is a final rule that involves requirements affecting flight safety, and we did not precede it by notice and opportunity for public comment. We invite you to send any written relevant data, views, or arguments about this AD. Send your comments to an address listed under the ADDRESSES section. Include “Docket No. FAA-2015-0082; Directorate Identifier 2014-NM-233-AD” at the beginning of your comments. We specifically invite comments on the overall regulatory, economic, environmental, and energy aspects of this AD. We will consider all comments received by the closing date and may amend this AD based on those comments.

We will post all comments we receive, without change, to http://www.regulations.gov, including any personal information you provide. We will also post a report summarizing each substantive verbal contact we receive about this AD.

Costs of Compliance

We estimate that this AD affects 120 airplanes of U.S. registry.

We also estimate that it will take about 1 work-hour per product to comply with the basic requirements of this AD. The average labor rate is $85 per work-hour. Based on these figures, we estimate the cost of this AD on U.S. operators to be $10,200, or $85 per product.

In addition, we estimate that any necessary follow-on actions will take about 58 work-hours and require parts costing $753, for a cost of $5,683 per product. We have no way of determining the number of aircraft that might need this action.

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-02-23 Bombardier, Inc.: Amendment 39-18092. Docket No. FAA-2015-0082; Directorate Identifier 2014-NM-233-AD.

(a) Effective Date

This AD becomes effective February 18, 2015.

(b) Affected ADs

This AD affects AD 2014-03-17, Amendment 39-17754 (79 FR 9389, February 19, 2014).

(c) Applicability

This AD applies to the Bombardier, Inc. airplanes identified in paragraphs (c)(1), (c)(2), and (c)(3) of this AD, certificated in any category.

(1) Bombardier, Inc. Model CL-600-1A11 (CL-600) airplanes, having serial numbers (S/Ns) 1004 through 1085 inclusive.

(2) Bombardier, Inc. Model CL-600-2A12 (CL-601) airplanes, having S/Ns 3001 through 3066 inclusive.

(3) Bombardier, Inc. Model CL-600-2B16 (CL-601-3A and CL-601-3R Variants) airplanes, having S/Ns 5001 through 5194 inclusive.

(d) Subject

Air Transport Association (ATA) of America Code 57, Wings.

(e) Reason

This AD was prompted by several reports of incorrectly oriented and fractured fasteners found on the inboard flap hinge-box forward fitting at wing station (WS) 76.50. We are issuing this AD to detect and correct incorrectly oriented or fractured fasteners, which could result in detachment of the flap hinge-box and the flap surface, and consequent reduced controllability of the airplane.

(f) Compliance

Comply with this AD within the compliance times specified, unless already done.

(g) Inspection on Airplanes Not Previously Inspected

For airplanes that have not been inspected as required by paragraph (g) of AD 2014-03-17, Amendment 39-17754 (79 FR 9389, February 19, 2014), as of the effective date of this AD: Within 10 flight cycles after the effective date of this AD or 100 flight cycles after March 6, 2014 (the effective date of AD 2014-03-17), whichever occurs first, do a detailed visual inspection for incorrect orientation and any fractured or missing fastener heads of each inboard flap fastener of the hinge-box forward fitting at WS 76.50 and WS 127.25, on both wings, in accordance with the Accomplishment Instructions of the applicable service information specified in paragraphs (g)(1) and (g)(2) of this AD. Accomplishing the inspection required by this paragraph terminates the requirements of paragraph (g) of AD 2014-03-17 for the inspected airplane only.

(1) For Model CL-600-1A11 (CL-600) airplanes having S/Ns 1004 through 1085 inclusive: Bombardier Alert Service Bulletin A600-0763, Revision 02, dated December 9, 2014, including Appendices 1 and 2, dated September 26, 2013.

(2) For Model CL-600-2A12 (CL-601) airplanes having S/Ns 3001 through 3066 inclusive, and Model CL-600-2B16 (CL-601-3A and CL-601-3R Variants) airplanes having S/Ns 5001 through 5194 inclusive: Bombardier Alert Service Bulletin A601-0627, Revision 02, dated December 9, 2014, including Appendices 1 and 2, dated September 26, 2013.

(h) Corrective Actions for Paragraph (g) of This AD

(1) If, during any inspection required by paragraph (g) of this AD, all fasteners are found correctly oriented and not fractured, and no fastener heads are missing (fasteners found intact): No further action is required by this AD.

(2) If, during any inspection required by paragraph (g) of this AD, any fastener is found incorrectly oriented but no fasteners are fractured or are missing a fastener head (fasteners found intact), repeat the inspection required by paragraph (g) of this AD thereafter at intervals not to exceed 10 flight cycles until the replacement specified in paragraph (h)(3) or (k) of this AD is accomplished.

(3) If, during any inspection required by paragraph (g) of this AD, any fastener is found fractured or has a missing fastener head: Before further flight, remove and replace all forward and aft fasteners (regardless of orientation or condition) at WS 76.50 and WS 127.25, on both wings, in accordance with the Accomplishment Instructions of the applicable service information specified in paragraphs (h)(3)(i) and (h)(3)(ii) of this AD, except as required by paragraph (m) of this AD. After accomplishing the replacement required by this paragraph, no further action is required by this AD.

(i) For Model CL-600-1A11 (CL-600) airplanes having S/Ns 1004 through 1085 inclusive: Bombardier Alert Service Bulletin A600-0763, Revision 02, dated December 9, 2014, including Appendices 1 and 2, dated September 26, 2013.

(ii) For Model CL-600-2A12 (CL-601) airplanes having S/Ns 3001 through 3066 inclusive, and Model CL-600-2B16 (CL-601-3A and CL-601-3R Variants) airplanes having S/Ns 5001 through 5194 inclusive: Bombardier Alert Service Bulletin A601-0627, Revision 02, dated December 9, 2014, including Appendices 1 and 2, dated September 26, 2013.

(i) Inspection for Airplanes Previously Inspected and Found To Have Incorrectly Oriented Fastener(s)

For airplanes on which an inspection required by paragraph (g) or (j) of AD 2014-03-17, Amendment 39-17754 (79 FR 9389, February 19, 2014), has been done as of the effective date of this AD, and on which any incorrectly oriented fastener was found but no fasteners were fractured (fasteners found intact): Except as provided by paragraph (l) of this AD, within 10 flight cycles after the effective date of this AD, or within 100 flight cycles after accomplishing the most recent inspection required by AD 2014-03-17, whichever occurs first, do a detailed visual inspection for any fractured or missing fastener heads of each inboard flap fastener of the hinge-box forward fitting at WS 76.50 and WS 127.25, on both wings. Do the inspection in accordance with the Accomplishment Instructions of the applicable service information specified in paragraphs (i)(1) and (i)(2) of this AD. Accomplishing the inspection required by this paragraph terminates the requirements of paragraphs (g) and (j) of AD 2014-03-17 for the inspected airplane only.

(1) For Model CL-600-1A11 (CL-600) airplanes having S/Ns 1004 through 1085 inclusive: Bombardier Alert Service Bulletin A600-0763, Revision 02, dated December 9, 2014, including Appendices 1 and 2, dated September 26, 2013.

(2) For Model CL-600-2A12 (CL-601) airplanes having S/Ns 3001 through 3066 inclusive, and Model CL-600-2B16 (CL-601-3A and CL-601-3R Variants) airplanes having S/Ns 5001 through 5194 inclusive: Bombardier Alert Service Bulletin A601-0627, Revision 02, dated December 9, 2014, including Appendices 1 and 2, dated September 26, 2013.

(j) Corrective Actions for Paragraph (i) of This AD

(1) If, during any inspection required by paragraph (i) of this AD, no fasteners are found fractured or have missing fastener heads (fasteners are intact), repeat the inspection required by paragraph (i) of this AD thereafter at intervals not to exceed 10 flight cycles until the replacement specified in paragraph (j)(2) or (k) of this AD is accomplished.

(2) If, during any inspection required by paragraph (i) of this AD, any fastener is found fractured or has a missing fastener head: Before further flight, remove and replace all forward and aft fasteners (regardless of orientation or condition) at WS 76.50 and WS 127.25, on both wings, in accordance with the Accomplishment Instructions of the applicable service information specified in paragraphs (j)(2)(i) and (j)(2)(ii) of this AD, except as required by paragraph (m) of this AD. After accomplishing the replacement required by this paragraph, no further action is required by this AD.

(i) For Model CL-600-1A11 (CL-600) airplanes having S/Ns 1004 through 1085 inclusive: Bombardier Alert Service Bulletin A600-0763, Revision 02, dated December 9, 2014, including Appendices 1 and 2, dated September 26, 2013.

(ii) For Model CL-600-2A12 (CL-601) airplanes having S/Ns 3001 through 3066 inclusive, and Model CL-600-2B16 (CL-601-3A and CL-601-3R Variants) airplanes having S/Ns 5001 through 5194 inclusive: Bombardier Alert Service Bulletin A601-0627, Revision 02, dated December 9, 2014, including Appendices 1 and 2, dated September 26, 2013.

(k) Optional Terminating Action for Incorrectly Oriented Fasteners

Replacement of all forward and aft fasteners (regardless of orientation or condition) at WS 76.50 and WS 127.25, on both wings, terminates the requirements of this AD. The replacement must be done in accordance with the Accomplishment Instructions of the applicable service information specified in paragraphs (k)(1) and (k)(2) of this AD, except as provided by paragraph (m) of this AD. Doing the replacement specified in this paragraph terminates the requirements of paragraphs (g) and (j) of AD 2014-03-17, Amendment 39-17754 (79 FR 9389, February 19, 2014), only for the airplane on which the replacement was done.

(1) For Model CL-600-1A11 (CL-600) airplanes having S/Ns 1004 through 1085 inclusive: Bombardier Alert Service Bulletin A600-0763, Revision 02, dated December 9, 2014, including Appendices 1 and 2, dated September 26, 2013.

(2) For Model CL-600-2A12 (CL-601) airplanes having S/Ns 3001 through 3066 inclusive, and Model CL-600-2B16 (CL-601-3A and CL-601-3R Variants) airplanes having S/Ns 5001 through 5194 inclusive: Bombardier Alert Service Bulletin A601-0627, Revision 02, dated December 9, 2014, including Appendices 1 and 2, dated September 26, 2013.

(l) Exception for Previously Replaced Fasteners

Replacement of all fractured and incorrectly oriented forward and aft fasteners, as specified in paragraph (i) or (k) of AD 2014-03-17, Amendment 39-17754 (79 FR 9389, February 19, 2014), if done before the effective date of this AD, is considered acceptable for compliance with the requirements of this AD.

(m) Exception to the Service Information

Where Bombardier Alert Service Bulletin A600-0763, Revision 02, dated December 9, 2014, including Appendices 1 and 2, dated September 26, 2013; and Bombardier Alert Service Bulletin A601-0627, Revision 02, dated December 9, 2014, including Appendices 1 and 2, dated September 26, 2013; specify to contact Bombardier for repair instructions, before further flight, repair using a method approved by the Manager, New York Aircraft Certification Office (ACO), FAA; or Transport Canada Civil Aviation (TCCA); or Bombardier's TCCA Design Approval Organization (DAO).

(n) Credit for Previous Actions

This paragraph provides credit for actions required by paragraphs (g), (h), and (i) of this AD, if those actions were performed before the effective date of this AD using the applicable service information identified in paragraphs (n)(1) through (n)(4) of this AD.

(1) Bombardier Alert Service Bulletin A600-0763, including Appendices 1 and 2, dated September 26, 2013, which was previously incorporated by reference on March 6, 2014 (79 FR 9389, February 19, 2014).

(2) Bombardier Alert Service Bulletin A600-0763, Revision 01, dated February 26, 2014, including Appendices 1 and 2, dated September 26, 2013, which is not incorporated by reference in this AD.

(3) Bombardier Alert Service Bulletin A601-0627, including Appendices 1 and 2, dated September 26, 2013, which was previously incorporated by reference on March 6, 2014 (79 FR 9389, February 19, 2014).

(4) Bombardier Alert Service Bulletin A601-0627, Revision 01, dated February 26, 2014, including Appendices 1 and 2, dated September 26, 2013, which is not incorporated by reference in this AD.

(o) Other FAA AD Provisions

The following provisions also apply to this AD:

(1) Alternative Methods of Compliance (AMOCs): The Manager, New York ACO, ANE-170, FAA, has the authority to approve AMOCs for this AD, if requested using the procedures found in 14 CFR 39.19. In accordance with 14 CFR 39.19, send your request to your principal inspector or local Flight Standards District Office, as appropriate. If sending information directly to the ACO, send it to ATTN: Program Manager, Continuing Operational Safety, FAA, New York ACO, 1600 Stewart Avenue, Suite 410, Westbury, NY 11590; telephone 516-228-7300; fax 516-794-5531. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, New York ACO, ANE-170, Engine and Propeller Directorate, FAA; or TCCA; or Bombardier, Inc.'s TCCA DAO. If approved by the DAO, the approval must include the DAO-authorized signature.

(p) Special Flight Permits

Special flight permits to operate the airplane to a location where the airplane can be repaired in accordance with sections 21.197 and 31.199 of the Federal Aviation Regulations (14 CFR 21.197 and 21.199) are not allowed.

(q) Related Information

(1) Refer to Mandatory Continuing Airworthiness Information (MCAI) Canadian Emergency Airworthiness Directive CF-2013-39R2, dated December 12, 2014, for related information. You may examine the MCAI on the Internet at http://www.regulations.gov by searching for and locating Docket No. FAA-2015-0082.

(2) Service information identified in this AD that is not incorporated by reference is available at the addresses specified in paragraphs (r)(3) and (r)(4) of this AD.

(r) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Bombardier Alert Service Bulletin A600-0763, Revision 02, dated December 9, 2014, including Appendices 1 and 2, dated September 26, 2013.

(ii) Bombardier Alert Service Bulletin A601-0627, Revision 02, dated December 9, 2014, including Appendices 1 and 2, dated September 26, 2013.

(3) For service information identified in this AD, contact Bombardier, Inc., 400 Côte-Vertu Road West, Dorval, Québec H4S 1Y9, Canada; telephone 514-855-5000; fax 514-855-7401; email thd.crj@aero.bombardier.com; Internet http://www.bombardier.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on January 20, 2015.
Jeffrey E. Duven,
Manager, Transport Airplane Directorate, Aircraft Certification Service.

[FR Doc. 2015-01661 Filed 2-2-15; 8:45 am]

BILLING CODE 4910-13-P